DEPARTMENT OF ENERGY

Federal Energy Regulatory Commission

[Docket No. CP17-101-005]

Transcontinental Gas Pipe Line Company, LLC; Notice of Request for Extension of Time

Take notice that on April 27, 2023, Transcontinental Gas Pipe Line Company, LLC (Transco) requested that the Federal Energy Regulatory Commission (Commission) grant an extension of time, until May 3, 2025, to construct and place into service, its Northeast Supply Enhancement (NESE) Project located in Pennsylvania, onshore and offshore New Jersey, and offshore New York as authorized in the Order Issuing Certificate (Order).¹ Ordering Paragraph (B)(1) of the Order required Transco to complete the construction of the NESE Project facilities and make them available for service within two years of the date of the Order, or by May 3, 2021.

¹ Transcontinental Gas Pipe Line Company, LLC, 167 FERC ¶ 61,110 (2019).

On May 20, 2021, the Commission granted Transco an extension of time, until May 3, 2023, to complete construction of the NESE Project and make it available for service.² Construction on the NESE Project has not begun. Transco states that it continues to review the scope of work for the NESE Project to not only meet Brooklyn Union Gas Company and KeySpan Gas East Corporation's (collectively, National Grid) firm transportation capacity needs but also to address water quality concerns raised by New York and New Jersey in their respective denials of water quality certification for the project under section 401 of the Clean Water Act. Transco asserts that the continuing need for the NESE Project is demonstrated by the 15-year term precedent agreements with National Grid for the entirety of the NESE Project's capacity, which remain in full force and effect. As a result, Transco now requests an additional two years, or until May 3, 2025, to complete construction of the NESE Project and make it available for service.

² Transcontinental Gas Pipe Line Company, LLC, 175 FERC ¶ 61,148 (2021).

This notice establishes a 15-calendar day intervention and comment period deadline. Any person wishing to comment on Transco's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2022).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with National Environmental Policy Act.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room. For assistance, contact FERC at FERCOnlineSupport@ferc.gov or call toll-free, (886) 208-3676 or TTY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Federal Energy Regulatory Commission, 12225 Wilkins Avenue, Rockville, Maryland 20852.

Comment Date: 5:00 p.m. Eastern Time on May 19, 2023.

Dated: May 4, 2023.
Kimberly D. Bose,
Secretary.

[FR Doc. 2023-09942 Filed 5-9-23; 8:45 am]

BILLING CODE 6717-01-P